DEPARTMENT OF THE INTERIOR

Bureau of Safety and Environmental Enforcement

[Docket ID BSEE-2016-0014; OMB Control Number 1014-0011; 17XE1700DX EEEE500000 EX1SF0000.DAQ000]

Information Collection Activities: Platforms and Structures; Submitted for Office of Management and Budget Review; Comment Request

ACTION: 30-Day notice.

SUMMARY: To comply with the Paperwork Reduction Act of 1995 (PRA), the Bureau of Safety and Environmental Enforcement (BSEE) is notifying the public that we have submitted to the Office of Management and Budget (OMB) an information collection request (ICR) to renew approval of the paperwork requirements in the regulations under subpart I, Platforms and Structures. This notice also provides the public a second opportunity to comment on the revised paperwork burden of these regulatory requirements.

DATES: You must submit comments by May 15, 2017.

ADDRESSES: Submit comments by either fax (202) 395-5806 or email (OIRA_Submission@omb.eop.gov) directly to the Office of Information and Regulatory Affairs, OMB, Attention: Desk Officer for the Department of the Interior (1014-0011). Please provide a copy of your comments to BSEE by any of the means below.

• Electronically: Go to http://www.regulations.gov. In the Search box, enter BSEE-2016-0014 then click search. Follow the instructions to submit public comments and view all related materials. We will post all comments.

• Email kye.mason@bsee.gov, fax (703) 787-1546, or mail or hand-carry comments to the Department of the Interior; Bureau of Safety and Environmental Enforcement; Regulations and Standards Branch; ATTN: Nicole Mason; 45600 Woodland Road, Sterling, VA 20166. Please reference ICR 1014-0011 in your comment and include your name and return address.

FOR FURTHER INFORMATION CONTACT: Nicole Mason, Regulations and Standards Branch, (703) 787-1607, to request additional information about this ICR. To see a copy of the entire ICR submitted to OMB, go to http://www.reginfo.gov (select Information Collection Review, Currently Under Review).

SUPPLEMENTARY INFORMATION:

Title: 30 CFR 250, subpart I, Platforms and Structures.

OMB Control Number: 1014-0011.

Abstract: The Outer Continental Shelf (OCS) Lands Act (OCSLA) at 43 U.S.C. 1334 authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to the Bureau of Safety and Environmental Enforcement (BSEE), 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BSEE is required to charge fees for services that provide special benefits or privileges to an identifiable non-Federal recipient above and beyond those which accrue to the public at large. Various applications and reports for Platform Verification Program, fixed structure, Caisson/Well Protector, and modification repairs are subject to cost recovery, and BSEE regulations specify service fees for these requests (§ 250.125).

On November 2, 2015, the President signed into law the Federal Civil Penalties Inflation Adjustment Act Improvements Act of 2015 (Sec. 701 of Pub. L. 114-74) (FCPIA of 2015). The OCSLA directs the Secretary of the Interior to adjust the OCSLA maximum civil penalty amount at least once every three years to reflect any increase in the Consumer Price Index (CPI) to account for inflation (43 U.S.C. 1350(b)(1)). The FCPIA of 2015 requires Federal agencies to adjust the level of civil monetary penalties with an initial “catch-up” adjustment, if warranted, through rulemaking and then to make subsequent annual adjustments for inflation. The purpose of these adjustments is to maintain the deterrent effect of civil penalties and to further the policy goals of the underlying statutes.

These authorities and responsibilities are among those delegated to BSEE. The regulations at 30 CFR 250, subpart I, pertain to Platforms and Structures and are the subject of this collection. This request also covers the related Notices to Lessees and Operators (NTLs) that BSEE issues to clarify, supplement, or provide additional guidance on some aspects of our regulations.

While most responses are mandatory, some are required to obtain or retain a benefit. No questions of a sensitive nature are asked. The BSEE will protect any confidential commercial or proprietary information according to the Freedom of Information Act (5 U.S.C. 552) and DOI's implementing regulations (43 CFR 2); section 26 of OCSLA (43 U.S.C. 1352); 30 CFR 250.197, Data and information to be made available to the public or for limited inspection; and 30 CFR part 252, OCS Oil and Gas Information Program.

The BSEE uses the information submitted under subpart I to determine the structural integrity of all OCS platforms and floating production facilities and to ensure that such integrity will be maintained throughout the useful life of these structures. We use the information to ascertain, on a case-by-case basis, that the fixed and floating platforms and structures are structurally sound and safe for their intended use to ensure safety of personnel and prevent pollution. More specifically, we use the information to:

• Review data concerning damage to a platform to assess the adequacy of proposed repairs.

• Review applications for platform construction (construction is divided into three phases—design, fabrication, and installation) to ensure the structural integrity of the platform.

• Review verification plans and third-party reports for unique platforms to ensure that all nonstandard situations are given proper consideration during the platform design, fabrication, and installation.

• Review platform design, fabrication, and installation records to ensure that the platform is constructed according to approved applications.

• Review inspection reports to ensure that platform integrity is maintained for the life of the platform.

Frequency: On occasion, as a result of situations encountered; and annually.

Description of Respondents: Potential respondents include Federal OCS oil, gas, or sulfur lessees and/or operators.

Estimated Reporting and Recordkeeping Hour Burden: The estimated annual hour burden for this information collection is a total of 92,786 hours and $988,210 non-hour costs. The following chart details the individual components and estimated hour burdens. In calculating the burdens, we assumed that respondents perform certain requirements in the normal course of their activities. We consider these to be usual and customary and took that into account in estimating the burden.

Burden Breakdown
Citation 30 CFR 250 subpart I and related NTLs | Reporting and/or recordkeeping requirement * | Hour burden | Average number of annual reponses | Annual burden hours
| Non-hour cost burdens
General Requirements for Platforms
900 thru 921 | General departure and alternative compliance requests not specifically covered elsewhere in subpart I regulations | Burden covered under 30 CFR 250, subpart A, 1014-0022. |  | 0
900(b), (c), (e); 901(b); 905; 906; 910(c), (d); 911(c), (g); 912; 913; 919; NTL(s) [PAP 904-908; PVP 909-918] | Submit application, along with reports/surveys and relevant data, to install new platform or floating production facility or significant changes to approved applications, including but not limited to: Summary of safety factors utilized in design of the platform; use of alternative codes, rules, or standards; CVA changes; and Platform Verification Program (PVP) plan for design, fabrication, and installation of new, fixed, bottom-founded, pile-supported, or concrete-gravity platforms and new floating platforms. Consult as required with BSEE and/or USCG. Re/Submit application for major modification(s)/repairs to any platform and obtain approval; and related requirements | 552 | 43 applications | 23,736
|  | $22,734 × 2 PVP = $45,468
|  | $3,256 × 5 fixed structure = $16,280
|  | $1,657 × 6 Caisson/Well Protector = $9,942
|  | $3,884 × 30 modifications/repairs = $116,520
900(b)(4) | Submit application for approval to convert an existing platform for a new purpose | 66 | 2 applications | 132
900(b)(5) | Submit application for approval to convert an existing mobile offshore drilling unit (MODU) for a new purpose | 37 | 1 application | 37
900(c) | Notify BSEE within 24 hours of damage and emergency repairs and request approval of repairs. Submit written completion report within 1 week upon completion of repairs | 5 | 1 notices/requests; reports | 5
|  | 9 |  | 9
900(e) | Submit platform installation date and the final as-built location data to the Regional Supervisor within 45 days after platform installation | 13 | 13 submittals | 169
900(e) | Resubmit an application for approval to install a platform if it was not installed within 1 year after approval (or other date specified by BSEE) | 42 | 1 application | 42
901(b) | Request approval for alternative codes, rules, or standards | Burden covered under 30 CFR 250, subpart A, 1014-0022 |  | 0
903 | Record original and relevant material test results of all primary structural materials; retain records during all stages of construction. Compile, retain, and provide location/make available to BSEE for the functional life of platform, the as-built drawings, design assumptions/analyses, summary of nondestructive examination records, inspection results, and records of repair not covered elsewhere | 247 | 115 lessees | 28,405
903(c); 905(k) | Submit certification statement [a certification statement is not considered information collection under 5 CFR 1320.3(h)(1); the burden is for the insertion of the location of the records on the statement and the submittal to BSEE] | This statement is submitted with the application. |  | 0
Platform Verification Program
911(c-e); 912(a-c); 914 | Submit complete schedule of all phases of design, fabrication, and installation with required information; also submit Gantt Chart with required information and required nomination/documentation for CVA, or to be performed by CVA | 97 | 2 schedules | 194
|  | $400,000 × 2 = $800,000 CVA costs.
912(a) | Submit design verification plans with your DPP or DOCD | Burden covered under 30 CFR 550, subpart B, 1010-0151 |  | 0
913(a) | Resubmit a changed design, fabrication, or installation verification plan for approval | 28 | 2 plans | 56
916(c) | Submit interim and final CVA reports and recommendations on design phase | 168 | 16 reports | 2,688
917(a), (c) | Submit interim and final CVA reports and recommendations on fabrication phase, including notices to BSEE and operator/lessee of fabrication procedure changes or design specification modifications | 180 | 12 reports | 2,160
918(c) | Submit interim and final CVA reports and recommendations on installation phase | 79 | 8 reports | 632
Inspection, Maintenance, and Assessment of Platforms
919(a) | Develop in-service inspection plan and keep on file. Submit annual (November 1 of each year) report on inspection of platforms or floating production facilities, including summary of testing results | 280 | 117 lessees | 32,760
919(b) NTL | After an environmental event, submit to Regional Supervisor initial report followed by updates and supporting information | 37 (initial) 24 (update) | 1 reports 1 reports | 37 24
919(c) NTL | Submit results of inspections, description of any damage, assessment of structure to withstand conditions, and remediation plans | 104 | 1 result | 104
920(a) | Demonstrate platform is able to withstand environmental loadings for appropriate exposure category | 81 | 1 occurrence | 81
920(c) | Submit application and obtain approval from the Regional Supervisor for mitigation actions (includes operational procedures) | 87 | 1 application | 87
920(e) | Submit a list of all platforms you operate, and appropriate supporting data, every 5 years or as directed by the Regional Supervisor | 60 | 115 operators/5 years = 23 lists per year | 1,380
920(f) | Obtain approval from the Regional Supervisor for any change in the platform | 48 | 1 approval | 48
Total Burden |  |  | 362 Responses | 92,786
|  |  | $988,210 Non-Hour Cost Burdens
* In the future, BSEE will be allowing the option of electronic reporting for certain requirements.

Estimated Reporting and Recordkeeping Non-Hour Cost Burden: We have identified non-hour cost burdens for various platform applications/installations that are associated with service fees (§ 250.125). The service fees are as follows: (1) $22,734 for installation under the Platform Verification Program; (2) $3,256 for installation of fixed structures under the Platform Approval Program; (3) $1,657 for installation of Caisson/Well Protectors; and (4) $3,884 for modifications and/or repairs. We also identified $400,000 associated with using Certified Verification Agents in the Platform Verification Program. We have not identified any other non-hour cost burdens associated with this collection of information, and we estimate a total annual reporting non-hour cost burden of $988,210.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on September 22, 2016, we published a Federal Register notice (81 FR 65395) announcing that we would submit this ICR to OMB for approval. The notice provided the required 60-day comment period. In addition, § 250.199 provides the OMB Control Number for the information collection requirements imposed by the 30 CFR 250, subpart I regulations. The regulation also informs the public that they may comment at any time on the collections of information and provides the address to which they should send comments. We received no comments in response to the Federal Register notice, nor did we receive any unsolicited comments.

Public Availability of Comments: Before including your address, phone number, email address, or other personal identifying information in your comment, you should be aware that your entire comment—including your personal identifying information—may be made publicly available at any time. While you can ask us in your comment to withhold your personal identifying information from public review, we cannot guarantee that we will be able to do so.

Information Collection Clearance Officer: Nicole Mason, (703) 787-1607.

Dated: February 15, 2017.
Eric Miller,
Acting Deputy Chief, Office of Offshore Regulatory Programs.

[FR Doc. 2017-07479 Filed 4-12-17; 8:45 am]

BILLING CODE 4310-VH-P